DEPARTMENT OF THE INTERIOR

Fish and Wildlife Service

[FWS-HQ-R-2013-N246; FXRS12650900000-145-FF09R20000]

Draft Strategic Growth Policy for the National Wildlife Refuge System

AGENCY: Fish and Wildlife Service, Interior.

ACTION: Notice of availability; request for comment.

SUMMARY: We, the U.S. Fish and Wildlife Service (Service), propose a policy to implement a strategic approach to the growth of the National Wildlife Refuge System (Refuge System, System). The National Wildlife Refuge System Administration Act (Administration Act), as amended by the National Wildlife Refuge System Improvement Act, requires that we “plan and direct the continued growth of the System in a manner that is best designed to accomplish the mission of the System.” This draft policy instructs the Refuge System to focus its protection measures on priority conservation features in order to ensure that our limited resources are directed to make the greatest contribution to the conservation of species in a strategic, cost-effective, and transparent manner. It ensures the growth of the System reflects our vision towards managing functional landscapes, enhancing our scientific rigor, improving our effectiveness, and involving our partners and the American people. We propose to incorporate this draft policy as Part 602, chapter 5 of the Fish and Wildlife Service Manual.

DATES: To ensure consideration, please send your written comments by March 3, 2014.

ADDRESSES: You may submit comments on this draft policy by any of the following methods:

U.S. Mail or Hand Delivery: Sarena Selbo, Division of Natural Resources and Conservation Planning, National Wildlife Refuge System, U.S. Fish and Wildlife Service, 4401 North Fairfax Drive, Room 600A, Arlington, VA 22203;

Email: nwrsstrategicgrowthpolicy@fws.gov.

FOR FURTHER INFORMATION CONTACT: Sarena Selbo, at the address above, or telephone: (703) 358-2664.

SUPPLEMENTARY INFORMATION: The draft guidance document which is the subject of this notice is available at: http://www.fws.gov/refuges/planning/StrategicGrowth.html.

Background

The National Wildlife Refuge System Improvement Act of 1997 amends the Administration Act (16 U.S.C. 668dd-ee) and provides an organic act for the Refuge System. It states that the Refuge System mission is to “administer a national network of lands and waters for the conservation, management, and where appropriate, restoration of the fish, wildlife, and plant resources and their habitats for the benefit of present and future generations of Americans.” It requires us to “plan and direct the continued growth of the System in a manner that is best designed to accomplish the mission of the System”, “to fulfill the mission of the System, as well as the specific purposes for which [the] refuge was established”, and to “ensure timely and effective cooperation and collaboration with Federal agencies and State fish and wildlife agencies during the course of acquiring and managing refuges.” We cannot fulfill our mission in the face of unparalleled challenges related to climate and non-climate stressors unless we provide consistent direction for adding lands and waters to the System in a science-based, cost-effective, and transparent manner. Based on statutory requirements, we developed a draft policy for Strategic Growth of the Refuge System.

Draft Policy

The purpose of the draft policy is to provide guidance for the U.S. Fish and Wildlife Service to implement a strategic approach to the growth of the National Wildlife Refuge System including: national wildlife refuges and other areas managed by the Refuge System. It prioritizes acquisitions within existing refuge boundaries, expanding existing refuges, and establishing new refuges. As well, the draft policy focuses protection measures on priority conservation features to ensure our limited resources make the greatest contribution to the conservation of species in a strategic, cost-effective, and transparent manner. This policy ensures strategic growth of the System and reflects our vision towards managing for functional landscapes, enhancing our scientific rigor, improving our effectiveness, and involving our partners and the American people.

This draft policy is consistent with the biological planning and conservation design components of Strategic Habitat Conservation, the Service's science-based, adaptive management framework for determining where and how to deliver conservation efficiently to achieve specific biological outcomes. The draft policy identifies threatened and endangered species, migratory birds of conservation concern, waterfowl, or the surrogate species that represent them, as priority conservation features.

The draft policy requires application of the best available science to incorporate elements of conservation design in the identification of priority conservation areas, which support priority conservation features, to contribute in achieving measurable conservation targets such as population objectives. This draft policy ensures projects discuss vulnerability to climate change and other non-climate stressors (e.g. habitat fragmentation, invasive species, etc.), describe how the Refuge System will mitigate stressors to ensure the project's resiliency, are arranged in a geographically efficient manner to safeguard ecological processes across the landscape, and complement the resilience of other conservation areas.

This draft policy identifies how the Service Director will receive project proposals, potential outcomes of Director project review, and how designated representatives at the local level, the refuge managers, must interact, coordinate, cooperate, and collaborate with State fish and wildlife agencies in the acquisition and management of refuges.

Request for Public Comments

We seek public comments on the draft Strategic Growth policy, and will consider comments and any additional information we receive during the comment period (see DATES). You may submit comments to any of the places cited in ADDRESSES.

Public Availability of Comments

Before including your address, phone number, email address, or other personal identifying information in your comment, you should be aware that your entire comment—including your personal identifying information—may be made publicly available at any time. While you can ask us in your comment to withhold your personal identifying information from public review, we cannot guarantee that we will be able to do so.

Dated: January 9, 2014.
Dan Ashe,
Director, Fish and Wildlife Service.

[FR Doc. 2014-01849 Filed 1-29-14; 8:45 am]

BILLING CODE 4310-55-P